DEPARTMENT OF LABOR

Employment and Training Administration

[TA-W-55,298, TA-W-55,298A, TA-W-55,298B]

Hewitt Soap Works, Inc., a Subsidiary Of Bradford Soap Works, Inc., Dayton, OH, Including Employees of Hewitt Soap Works, Inc., Dayton, OH Located in: Peapack, NJ, Atlanta, GA; Amended Notice of Certification Regarding Eligibility To Apply for Worker Adjustment Assistance and Alternative Trade Adjustment Assistance

In accordance with Section 223 of the Trade Act of 1974 (19 U.S.C. 2273) the Department of Labor issued a Notice of Certification Regarding Eligibility to Apply for Worker Adjustment Assistance and Alternative Trade Adjustment Assistance on August 25, 2004, applicable to workers of Hewitt Soap Works, Inc., a subsidiary of Bradford Soap Works, Inc., Dayton, Ohio. The notice was published in the Federal Register on September 23, 2004 (69 FR 57094).

At the request of the State agency, the Department reviewed the certification for workers of the subject firm. New information shows that worker separations occurred involving employees of the Dayton, Ohio facility of Hewitt Soap Works, Inc., a subsidiary of Bradford Soap Works, Inc. located in Peapack, New Jersey and Atlanta, Georgia.

Mr. Thomas O'Callaghan and Mr. Larry Southard provided sales support services for the production of bar soap at the Dayton, Ohio location of the subject firm.

Based on these findings, the Department is amending this certification to include employees of the Dayton, Ohio facility of Hewitt Soap Works, Inc., located in Peapack, New Jersey and Atlanta, Georgia. Since workers of the Dayton, Ohio location of the subject firm were certified eligible to apply for alternative trade adjustment assistance, the Department is extending this eligibility to Mr. Thomas O'Callaghan in Peapack, New Jersey and Mr. Larry Southard in Atlanta, Georgia.

The intent of the Department's certification is to include all workers of Hewitt Soap Works, Inc., a subsidiary of Bradford Soap Works, Inc., Dayton, Ohio, who were adversely affected by increased imports.

The amended notice applicable to TA-W-55,298 is hereby issued as follows:

All workers of Hewitt Soap Works, Inc., a subsidiary of Bradford Soap Works, Inc., Dayton, Ohio (TA-W-55,298), including employees of Hewitt Soap Works, Inc., a subsidiary of Bradford Soap Works, Inc., Dayton, Ohio, located in Peapack, New Jersey (TA-W-55,298A) and Atlanta, Georgia (TA-W-55,298B), who became totally or partially separated from employment on or after June 22, 2003, through August 25, 2006, are eligible to apply for adjustment assistance under Section 223 of the Trade Act of 1974 and are also eligible to apply for alternative trade adjustment assistance under Section 246 of the Trade Act of 1974.

Signed at Washington, DC this 23rd day of February 2005.
Linda G. Poole,
Certifying Officer, Division of Trade Adjustment Assistance.

[FR Doc. E5-991 Filed 3-8-05; 8:45 am]

BILLING CODE 4510-30-P